DEPARTMENT OF COMMERCE

International Trade Administration

Agency Information Collection Activities; Submission to the Office of Management and Budget (OMB) for Review and Approval; Comment Request; Inclusions to the Section 232 National Security Adjustments to Automobile Parts Imports

AGENCY: International Trade Administration, Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before February 23, 2026.

ADDRESSES: Interested persons are invited to submit written comments to Julien Tuya, International Trade Specialist, Office of Transportation and Machinery, International Trade Administration, by email to AutoInclusions@trade.gov or PRA@trade.gov. Please reference OMB Control Number 0625-0284 in the subject line of your comments. Do not submit Confidential Business Information or otherwise sensitive or protected information.

FOR FURTHER INFORMATION CONTACT: Requests for additional information or specific questions related to collection activities should be directed to Julien Tuya, International Trade Specialist, Office of Transportation and Machinery, International Trade Administration, by email to AutoInclusions@trade.gov.

SUPPLEMENTARY INFORMATION:

I. Abstract

On March 26, 2025, the President issued Proclamation 10908, “Adjusting Imports of Automobiles and Automobile Parts Into the United States,” 90 FR 14705 (April 3, 2025) (Automobile Proclamation), which finds that imports of automobiles and certain automobile parts continue to threaten to impair the national security of the United States and imposes specified tariffs to adjust imports of automobiles and certain automobile parts so that such imports will not threaten to impair national security pursuant to Section 232 of the Trade Expansion Act of 1962 (“Section 232”). Section 232 authorizes the President to adjust the imports of an article and its derivatives that are being imported into the United States in such quantities or under such circumstances as to threaten to impair the national security of the United States so that such imports will not threaten to impair national security. The Automobile Proclamation imposed a 25 percent tariff on certain imports of automobiles, effective April 3, 2025, and certain imports of automobile parts, effective May 3, 2025.

The Automobile Proclamation also required the Secretary of Commerce (Secretary) to establish a process for including additional automobile parts articles within the scope of the tariffs imposed by the President in the Automobile Proclamation. In addition to inclusions made by the Secretary, the process is to provide for including additional automobile parts articles at the request of a domestic producer of an automobile or automobile parts article, or an industry association representing one or more such producers, where the request establishes that imports of additional automobile parts articles have increased in a manner that threatens to impair the national security or otherwise undermines the objectives set forth in Proclamation 9888 (84 FR 23433, May 17, 2019), the Automobile Proclamation, or in any proclamation issued under Section 232 of the Trade Expansion Act of 1962, as amended (Section 232) or any additional information submitted to the President by the Secretary pursuant to those proclamations. When the Secretary receives such a request from a domestic producer or industry association, the Secretary, after consultation with the United States International Trade Commission and U. S. Customs and Border Protection, is to issue a determination regarding whether to include the articles within 60 days of receiving the request.

The automotive industry is in a state of rapid development for various technologies, including in the areas of alternative propulsion systems, autonomous driving capabilities, and other advanced technologies. It is important that manufacturers supporting both the commercial vehicle industry and the defense sector have the opportunity to identify new and emerging automotive products with importance for defense applications to be considered under the scope of this action. In addition, there are many automotive products that fall under broad tariff codes that include parts beyond the automotive sector. While the Department made a best estimate of the most important tariff codes to apply to the scope of the 232 action, industry experts may be aware of broad Harmonized Tariff Schedule (HTS) codes that have become increasingly important to automotive uses that were not originally considered under this investigation.

II. Method of Collection

Domestic producers of automobiles or automobile parts articles, or any industry association representing one or more such producers, may submit automobile parts articles inclusion requests during two-week submission windows that ITA will open four times annually. Submissions of inclusions requests must be submitted in PDF format via email to AutoInclusions@trade.gov. ITA will review the requests received on a rolling basis during the two-week submission window to validate that each request received contain all the required elements and does not exceed the page limitation. In the instance where the requestor does not include all the required elements or otherwise improperly filed the submission, at the discretion of the Under Secretary for International Trade, the requestor will be granted a 48-hour window to submit a proper filing. The use of fixed submission windows will provide predictability to industry and will be the most efficient use of ITA resources given the short timeframes to secure and process public comments and provide recommendations.

III. Data

OMB Control Number: 0625-0284.

Form Number(s): None.

Type of Review: Regular submission, extension of a current information collection.

Affected Public: Business or other for-profit organizations.

Estimated Number of Respondents: 50.

Estimated Time per Response: 8 hours.

Estimated Total Annual Burden Hours: 400 hours.

Estimated Total Annual Cost to Public: $30,190.

Respondent's Obligation: Voluntary.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Departmental PRA Clearance Officer, Office of the Under Secretary for Economic Affairs, Commerce Department.

[FR Doc. 2025-23768 Filed 12-22-25; 8:45 am]

BILLING CODE 3510-DR-P